NUCLEAR REGULATORY COMMISSION

[NRC-2021-0059]

Environmental Assessments and Findings of No Significant Impact of Independent Spent Fuel Storage Facilities Decommissioning Funding Plans

AGENCY: Nuclear Regulatory Commission.

ACTION: Environmental assessment and finding of no significant impact; issuance.

SUMMARY: The U.S. Nuclear Regulatory Commission (NRC) is publishing this notice regarding the issuance of a Final Environmental Assessment (EA) and a Finding of No Significant Impact (FONSI) for its review and approval of the initial and updated decommissioning funding plans (DFPs) submitted by independent spent fuel storage installation (ISFSI) licensees for the ISFSIs listed in the “Discussion” section of this document.

DATES: The EA and FONSI referenced in this document are available on April 1, 2021.

ADDRESSES: Please refer to Docket ID NRC-2021-0059 when contacting the NRC about the availability of information regarding this document. You may obtain publicly available information related to this document using any of the following methods:

• Federal Rulemaking website: Go to https://www.regulations.gov and search for Docket ID NRC-2021-0059. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• Attention: The PDR, where you may examine and order copies of public

documents, is currently closed. You may submit your request to the PDR via email at pdr.resource@nrc.gov or call 1-800-397-4209 or 301-415-4737, between 8:00 a.m. and 4:00 p.m. (EST), Monday through Friday, except Federal holidays.

FOR FURTHER INFORMATION CONTACT: Christian Jacobs, Office of Nuclear Material Safety and Safeguards, U.S. Nuclear Regulatory Commission, Washington, DC 20555-0001; telephone: 301-415-6825, email: Christian.Jacobs@nrc.gov.

SUPPLEMENTARY INFORMATION:

I. Introduction

The NRC is considering the approval of the initial and updated DFPs submitted by ISFSI licensees. The NRC staff has prepared a Final EA and FONSI determination for each of the initial and updated ISFSI DFPs in accordance with the NRC regulations in Part 51 of title 10 of the Code of Federal Regulations (10 CFR), “Environmental Protection Regulations for Domestic Licensing and Related Regulatory Functions,” which implement the National Environmental Policy Act of 1969, as amended (42 U.S.C. 4321 et seq.).

The NRC requires its licensees to plan for the eventual decommissioning of their licensed facilities prior to license termination. On June 17, 2011, the NRC published a final rule in the Federal Register amending its decommissioning planning regulations (76 FR 35512). The final rule amended the NRC regulation, 10 CFR 72.30, which concerns financial assurance and decommissioning for ISFSIs. This regulation requires each holder of, or applicant for, a license under 10 CFR part 72 to submit a DFP for the NRC's review and approval. The DFP is to demonstrate the licensee's financial assurance, i.e., that funds will be available to decommission the ISFSI. The NRC staff will later publish its financial analyses of the DFP submittals which will be available for public inspection in ADAMS.

II. Discussion

The following table includes the plant name, docket number, licensee, and ADAMS Accession Number for the Final EA and FONSI determination for each of the individual ISFSIs. The table also includes the ADAMS Accession Numbers for other relevant documents, including the initial and updated DFP submittals. For further details with respect to these actions, see the NRC staff's Final EA and FONSI determinations which are available for public inspection in ADAMS and at https://www.regulations.gov under Docket ID NRC-2021-0059. For additional direction on accessing information related to this document, see the ADDRESSES section of this document.

Finding of No Significant Impact
Facility | Monticello Nuclear Generating Plant.
Docket No. | 72-58.
Licensee | Northern States Power Company, a Minnesota corporation, doing business as Xcel Energy (Xcel).
Proposed Action | The NRC's review and approval of Xcel's initial and updated DFPs submitted in accordance with 10 CFR 72.30(b) and (c).
Environmental Impact of Proposed Action | The NRC staff has determined that the proposed action, the review and approval of Xcel's initial and updated DFPs, submitted in accordance with 10 CFR 72.30(b) and (c), will not authorize changes to licensed operations or maintenance activities, or result in changes in the types, characteristics, or quantities of radiological or non-radiological effluents released into the environment from the ISFSI, or result in the creation of solid waste. Moreover, the approval of the initial and updated DFPs will not authorize any construction activity, facility modification, or other land-disturbing activity. The NRC staff has concluded that the proposed action is a procedural and administrative action that will not have a significant impact on the environment.
Finding of No Significant Impact | The proposed action does not require changes to the ISFSI's licensed routine operations, maintenance activities, or monitoring programs, nor does it require new construction or land-disturbing activities. The scope of the proposed action concerns only the NRC's review and approval of Xcel's initial and updated DFPs. The scope of the proposed action does not include, and will not result in, the review and approval of decontamination or decommissioning activities or license termination for the ISFSI or for other parts of Monticello Nuclear Generating Plant. Therefore, the NRC staff determined that approval of the initial and updated DFPs for the Monticello Nuclear Generating Plant ISFSI will not significantly affect the quality of the human environment, and accordingly, the staff has concluded that a FONSI is appropriate. The NRC staff further finds that preparation of an environmental impact statement (EIS) is not required.
Available Documents | Xcel Energy, 2012. ISFSI Decommissioning Planning, dated December 14, 2012. ADAMS Accession No. ML12353A292.
| Xcel Energy, 2015. ISFSI DFPs, dated December 11, 2015. ADAMS Accession No. ML15348A143.
| U.S. Nuclear Regulatory Commission. EA for Final Rule-Decommissioning Planning, dated February 1, 2009. ADAMS Accession No. ML090500648.
| U.S. Nuclear Regulatory Commission. Note to File, Re: ESA Section 7 No Effect Determination for ISFSI DFP Reviews, dated May 15, 2017. ADAMS Accession No. ML17135A062.
| U.S. Nuclear Regulatory Commission. Review of the Draft EA and FONSI for the Monticello Nuclear Generating Plant ISFSI DFP, dated September 26, 2016. ADAMS Accession No. ML16270A075.
| U.S. Nuclear Regulatory Commission. Final EA and FONSI for the Northern States Power Company's Initial and Updated DFPs Submitted in Accordance with 10 CFR 72.30(b) and (c) for Monticello Nuclear Generating Plant ISFSI, dated March 25, 2021. ADAMS Accession Package No. ML21055A733.
Facility | Prairie Island Nuclear Generating Plant, Units 1 and 2.
Docket No. | 72-10.
Licensee | Northern States Power Company, a Minnesota corporation, doing business as Xcel Energy (Xcel).
Proposed Action | The NRC's review and approval of Xcel's initial and updated DFPs submitted in accordance with 10 CFR 72.30(b) and (c).
Environmental Impact of Proposed Action | The NRC staff has determined that the proposed action, the review and approval of Xcel's initial and updated DFPs, submitted in accordance with 10 CFR 72.30(b) and (c), will not authorize changes to licensed operations or maintenance activities, or result in changes in the types, characteristics, or quantities of radiological or non-radiological effluents released into the environment from the ISFSI, or result in the creation of solid waste. Moreover, the approval of the initial and updated DFPs will not authorize any construction activity, facility modification, or other land-disturbing activity. The NRC staff has concluded that the proposed action is a procedural and administrative action that will not have a significant impact on the environment.
Finding of No Significant Impact | The proposed action does not require changes to the ISFSI's licensed routine operations, maintenance activities, or monitoring programs, nor does it require new construction or land-disturbing activities. The scope of the proposed action concerns only the NRC's review and approval of Xcel's initial and updated DFPs. The scope of the proposed action does not include, and will not result in, the review and approval of decontamination or decommissioning activities or license termination for the ISFSI or for other parts of Prairie Island Nuclear Generating Plant, Units 1 and 2. Therefore, the NRC staff determined that approval of the initial and updated DFPs for the Prairie Island Nuclear Generating Plant, Units 1 and 2, ISFSI will not significantly affect the quality of the human environment, and accordingly, the staff has concluded that a FONSI is appropriate. The NRC staff further finds that preparation of an environmental impact statement (EIS) is not required.
Available Documents | Xcel, 2012. Responses to Request for Supplemental Information—Prairie Island ISFSI License Renewal Application (TAC No. L24592), dated February 29, 2012. ADAMS Accession No. ML12065A073.
| Xcel Energy, 2015. ISFSI DFPs, dated December 11, 2015. ADAMS Accession No. ML15348A143.
| U.S. Nuclear Regulatory Commission. EA for Final Rule-Decommissioning Planning, dated February 1, 2009. ADAMS Accession No. ML090500648.
| U.S. Nuclear Regulatory Commission. Note to File, Re: ESA Section 7 No Effect Determination for ISFSI DFP Reviews, dated May 15, 2017. ADAMS Accession No. ML17135A062.
| U.S. Nuclear Regulatory Commission. Review of the Draft EA and FONSI for the Prairie Island Nuclear Generating Plant ISFSI DFP, dated August 17, 2017. ADAMS Accession No. ML17226A177.
| Minnesota Department of Health, 2017. Review of the Draft EA and FONSI for the Prairie Island Nuclear Generating Plant ISFSI DFP, dated September 14, 2017. ADAMS Accession No. ML17278A157.
| U.S. Nuclear Regulatory Commission. Final EA and FONSI for Northern States Power Company's Initial and Updated DFPs Submitted in Accordance with 10 CFR 72.30(b) and (c) for Prairie Island Nuclear Generating Plant, Units 1 and 2, ISFSI, dated March 25, 2021. ADAMS Accession Package No. ML21055A596.
Facility | La Crosse Boiling Water Reactor.
Docket No. | 72-46.
Licensee | Dairyland Power Cooperative (DPC).
Proposed Action | The NRC's review and approval of DPC's initial and updated DFPs submitted in accordance with 10 CFR 72.30(b) and (c).
Environmental Impact of Proposed Action | The NRC staff has determined that the proposed action, the review and approval of DPC's initial and updated DFPs, submitted in accordance with 10 CFR 72.30(b) and (c), will not authorize changes to licensed operations or maintenance activities, or result in changes in the types, characteristics, or quantities of radiological or non-radiological effluents released into the environment from the ISFSI, or result in the creation of solid waste. Moreover, the approval of the initial and updated DFPs will not authorize any construction activity, facility modification, or other land-disturbing activity. The NRC staff has concluded that the proposed action is a procedural and administrative action that will not have a significant impact on the environment.
Finding of No Significant Impact | The proposed action does not require changes to the ISFSI's licensed routine operations, maintenance activities, or monitoring programs, nor does it require new construction or land-disturbing activities. The scope of the proposed action concerns only the NRC's review and approval of DPC's initial and updated DFPs. The scope of the proposed action does not include, and will not result in, the review and approval of decontamination or decommissioning activities or license termination for the ISFSI or for other parts of La Crosse Boiling Water Reactor. Therefore, the NRC staff determined that approval of the initial and updated DFPs for the La Crosse Boiling Water Reactor ISFSI will not significantly affect the quality of the human environment, and accordingly, the staff has concluded that a FONSI is appropriate. The NRC staff further finds that preparation of an environmental impact statement (EIS) is not required.
Available Documents | DPC, 2013. La Crosse Boiling Water Reactor DFP for ISFSI, dated March 12, 2013. ADAMS Accession No. ML13100A127.
| DPC, 2016. La Crosse Boiling Water Reactor Funding Plan for ISFSI, dated March 14, 2016. ADAMS Accession No. ML16102A101.
| DPC, 2018. Response to Request for Additional Information by the Spent Fuel Licensing Branch, Division of Spent Fuel Management, Office of Nuclear Material Safety and Safeguards 2016 DFP for La Crosse Boiling Water Reactor, dated March 21, 2018. ADAMS Accession No. ML18102A531.
| U.S. Nuclear Regulatory Commission. EA for Final Rule-Decommissioning Planning, dated February 1, 2009. ADAMS Accession No. ML090500648.
| U.S. Nuclear Regulatory Commission. Note to File, Re: ESA Section 7 No Effect Determination for ISFSI DFP Reviews, dated May 15, 2017. ADAMS Accession No. ML17135A062.
| U.S. Nuclear Regulatory Commission. Review of the Draft EA and FONSI for the La Crosse Boiling Water Reactor ISFSI DFP, dated September 26, 2016. ADAMS Accession No. ML16271A057.
| U.S. Nuclear Regulatory Commission. Request for Additional Information Regarding Dairyland Power Cooperative's DFP Update for La Crosse Boiling Water Reactor ISFSI, dated March 8, 2018. ADAMS Package Accession No. ML18067A084.
| U.S. Nuclear Regulatory Commission. Final EA and FONSI for Dairyland Power Cooperative's Initial and Updated DFPs Submitted in Accordance with 10 CFR 72.30(b) and (c) for La Crosse Boiling Water Reactor ISFSI, dated March 25, 2021. ADAMS Accession Package No. ML21056A369.

Dated: March 29, 2021.
For the Nuclear Regulatory Commission.
John B. McKirgan,
Chief, Storage and Transportation Licensing Branch, Division of Fuel Management, Office of Nuclear Material Safety and Safeguards.

[FR Doc. 2021-06749 Filed 3-31-21; 8:45 am]

BILLING CODE 7590-01-P